DEPARTMENT OF STATE

[Public Notice 3419]

Culturally Significant Objects Imported for Exhibition Determinations: “Antioch: The Lost Ancient City”

AGENCY: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999, as amended by Delegation of Authority No. 236-3 of August 28, 2000, I hereby determine that the objects to be included in the exhibit, “Antioch: The Lost Ancient City,” imported from abroad for the temporary exhibition without profit within the United States, are of cultural significance. These objects are imported pursuant to a loan agreement with a foreign lender. I also determine that the temporary exhibition or display of the exhibit objects at the Worcester Art Museum, Worcester, Massachusetts from on or about October 7, 2000, to on or about February 4, 2001, at the Cleveland Museum of Art, Cleveland, Ohio from on or about March 18, 2001, to on or about June 3, 2001, and at the Baltimore Museum of Art, Baltimore, Maryland from on or about September 16, 2001, to on or about December 30, 2001, is in the national interest. Public Notice of these determinations is ordered to be published in the Federal Register.

FOR FURTHER INFORMATION CONTACT: For further information, including a list of exhibit objects, contact Paul W. Manning, Attorney-Adviser, Office of the Legal Adviser, 202/619-5997, and the address is Room 700, United States Department of State, 301 4th Street, SW., Washington, DC 20547-0001.

Dated: September 11, 2000.
William B. Bader,
Assistant Secretary for Educational and Cultural Affairs, United States Department of State.

[FR Doc. 00-23904 Filed 9-15-00; 8:45 am]

BILLING CODE 4710-08-P